DEPARTMENT OF ENERGY

Environmental Management Site-Specific Advisory Board, Idaho Cleanup Project

AGENCY: Office of Environmental Management, Department of Energy.

ACTION: Notice of open meeting.

SUMMARY: This notice announces an in-person/virtual hybrid meeting of the Environmental Management Site-Specific Advisory Board (EM SSAB), Idaho Cleanup Project (ICP). The Federal Advisory Committee Act requires that public notice of this meeting be announced in the Federal Register.

DATES: Thursday, April 27, 2023; 9:00 a.m.-12:00 p.m. MDT.

An opportunity for public comment will be at 11:45 a.m. MDT.

These times are subject to change; please contact the ICP Citizens Advisory Board (CAB) Administrator (below) for confirmation of times prior to the meeting.

ADDRESSES: This meeting will be open to the public in-person at the Residence Inn (address below) or virtually via Zoom. To attend virtually, please contact Mariah Porter, ICP CAB Administrator, by email mariah.porter@northwindgrp.com or phone (208) 557-7857, no later than 5:00 p.m. MDT on Tuesday, April 25, 2023.

Board members, Department of Energy (DOE) representatives, agency liaisons, and Board support staff will participate in-person, following COVID-19 precautionary measures, at: Residence Inn, 635 West Broadway Street, Idaho Falls, ID 83404.

Attendees should check the ICP CAB Administrator (below) for any meeting format changes due to COVID-19 protocols.

FOR FURTHER INFORMATION CONTACT: Mariah Porter, ICP CAB Administrator, by phone (208) 557-7857 or email mariah.porter@northwindgrp.com or visit the Board's internet homepage at https://energy.gov/em/icpcab.

SUPPLEMENTARY INFORMATION:

Purpose of the Board: The purpose of the Board is to make recommendations to DOE-EM and site management in the areas of environmental restoration, waste management, and related activities.

Tentative Agenda (agenda topics may change up to the day of the meeting; please contact Mariah Porter for the most current agenda):

1. Recent Public Outreach

2. Program Presentations

3. DOE Presentation

Public Participation: The in-person/online virtual hybrid meeting is open to the public either in-person at the Residence Inn or via Zoom. To sign-up for public comment, please contact the ICP CAB Administrator (above) no later than 5:00 p.m. MDT on Tuesday, April 25, 2023. In addition to participation in the live public comment sessions identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by writing or calling Mariah Porter, ICP CAB Administrator, phone (208) 557-7857 or email mariah.porter@northwindgrp.com. Minutes will also be available at the following website: https://www.energy.gov/em/icpcab/listings/cab-meetings.

Signed in Washington, DC, on March 27, 2023.
LaTanya Butler,
Deputy Committee Management Officer.

[FR Doc. 2023-06728 Filed 3-30-23; 8:45 am]

BILLING CODE 6450-01-P